DEPARTMENT OF DEFENSE

[DOD-2006-OS-0111]

Office of the Inspector General; Privacy Act of 1974; System of Records

AGENCY: Office of the Inspector General, DoD.

ACTION: Notice to amend systems of records.

SUMMARY: The Office of the Inspector General (OIG) is amending a system of records notice in its existing inventory of record systems subject to the Privacy Act of 1974, (5 U.S.C. 552a), as amended.

DATES: This proposed action will be effective without further notice on July 5, 2005 unless comments are received which result in a contrary determination.

ADDRESSES: Send comments to Chief, FOIA/PA Office, Inspector General, Department of Defense, 400 Army Navy Drive, Room 2001, Arlington, VA 22202-4704.

FOR FURTHER INFORMATION CONTACT: Mr. Darryl R. Aaron at (703) 605-9785.

SUPPLEMENTARY INFORMATION: The Office of the Inspector General (OIG) systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: May 26, 2006.
C.R. Choate,
Alternate OSD Federal Register Liaison Officer, Department of Defense.

CIG-17

System name:

Voluntary Leave Transfer Program Record (June 16, 2003, 68 FR 35636).

Changes:

* * * * *

System location:

Delete entry and replace with: “Human Capital Management Directorate, Department of Defense Office of the Inspector General, 400 Army Navy Drive, Arlington, VA 22202-4704.”

* * * * *

Purpose(s):

Delete entry and replace with: “The file is used in managing the Department of Defense Office of the Inspector General, Voluntary Leave Transfer Program. The recipient's name, position data, organization, and a brief hardship description are published internally for passive solicitation purposes. The Social Security Number is sought to effectuate the transfer of leave from the donor's account to the recipient's account.”

* * * * *

System manager(s) and address:

Delete entry and replace with: “Human Capital Management Directorate, Department of Defense Office of the Inspector General, 400 Army Navy Drive, Arlington, VA 22202-4704.”

Notification procedure:

Delete entry and replace with: “Individuals seeking to determine whether this system of records contains information about themselves should address written inquires to the Freedom of Information Act Requester Service Center/Privacy Act Office, 400 Army Navy Drive, Arlington, VA 22202-4704.

Individual should provide full name and Social Security Number.”

Record access procedures:

Delete entry and replace with: “Individuals seeking access to records about themselves contained in this system of records should address written inquires to the Freedom of Information Act Requester Service Center/Privacy Act Office, 400 Army Navy Drive, Arlington, VA 22202-4704.

Individual should provide full name and Social Security Number.”

* * * * *

CIG-17

System name:

Voluntary Leave Transfer Program Records.

System location:

Human Capital Management Directorate, Department of Defense Office of the Inspector General, 400 Army Navy Drive, Arlington, VA 22202-4704.

Categories of individuals covered by the system:

Individuals who have volunteered to participate in the leave transfer program as either a donor or a recipient.

Categories of records in the system:

Leave recipient records contain the individual's name, organization, office telephone number, Social Security Number, position title, grade, pay level, leave balances, number of hours requested, brief description of the medical or personal hardship which qualifies the individual for inclusion in the program, and the status of that hardship.

The file may also contain medical or physician certifications and agency approvals or denials.

Donor records include the individual's name, organization, office telephone number, Social Security Number, position title, grade, and pay level, leave balances, number of hours donated and the name of the designated recipient.

Authority for maintenance of the system:

5 U.S.C. 6331 et seq., Leave; 5 CFR part 630, Absence and Leave; IG Instruction 1424.630, Leave Administration Policy and Procedures; and E.O. 9397 (SSN).

Purpose(s):

The file is used in managing the Department of Defense Office of the Inspector General, Voluntary Leave Transfer Program. The recipient's name, position data, organization, and a brief hardship description are published internally for passive solicitation purposes. The Social Security Number is sought to effectuate the transfer of leave from the donor's account to the recipient's account.

Routine uses of records maintained in the system, including categories of users and the purposes of such uses:

In addition to those disclosures generally permitted under 5 U.S.C. 552a(b) of the Privacy Act, these records or information contained therein may specifically be disclosed outside the DoD as a routine use pursuant to 5 U.S.C. 552(a)(b)(3) as follows:

To the Department of Labor in connection with a claim filed by an employee for compensation due to a job-connected injury or illness; where leave donor and leave recipient are employed by different Federal agencies, to the personnel and pay offices of the Federal agency involved to effectuate the leave transfer.

The DoD “Blanket Routine Uses” set forth at the beginning of the OIG's compilation of systems of records notices also apply to this system.

POLICIES AND PRACTICES FOR STORING, RETRIEVING, ACCESSING, RETAINING, AND DISPOSING OF RECORDS IN THE SYSTEM:

STORAGE:

Records are stored in paper and computerized form.

RETRIEVABILITY:

Records are retrieved by name of Social Security Number.

SAFEGUARDS:

Records are accessed by custodian of the records or by persons responsible for servicing the record system in performance of their official duties. Records are stored in locked cabinets or rooms and are controlled by personnel screening and computer software.

RETENTION AND DISPOSAL:

Records are destroyed one year after the end of the year in which the file is closed.

SYSTEM MANGER(S) AND ADDRESS:

Human Capital Management Directorate, Department of Defense Office of the Inspector General, 400 Army Navy Drive, Arlington, VA 22202-4704.

NOTIFICATION PROCEDURES:

Individuals seeking to determine whether this system of records contains information about themselves should address written inquiries to the Freedom of Information Act Requester Service Center/Privacy Act Office, 400 Army Navy Drive, Arlington, VA 22202-4704.

Individual should provide full name and Social Security Number.

RECORD ACCESS PROCEDURES:

Individuals seeking access to records about themselves contained in this system of records should address written inquiries to the Freedom of Information Act Requester Service Center/Privacy Act Office, 400 Army Navy Drive, Arlington, VA 22202-4704.

Individual should provide full name and Social Security Number.

CONTESTING RECORD PROCEDURES:

The OIG's rules for accessing records, and for contesting contents are appealing initial agency determinations are published in 32 CFR part 312 and may be obtained from the system manager.

RECORD SOURCE CATEGORIES:

Information is provided primarily by the record subject; however, some data may be obtained from personnel and leave records.

exemptions claimed for the system:

None.

[FR Doc. 06-5086 Filed 6-2-06; 8:45 am]

BILLING CODE 5001-06-M